DEPARTMENT OF LABOR

Employment and Training Administration

[TA-W-65,287]

The Doe-Run Company; St. Louis, MO; Notice of Termination of Investigation

Pursuant to Section 221 of the Trade Act of 1974, as amended, an investigation was initiated on February 18, 2009 in response to a worker petition filed by an official of a Missouri State workforce office on behalf of workers of The Doe-Run Company, St. Louis, Missouri.

The petitioner has requested that the petition be withdrawn. Consequently, the investigation has been terminated.

Signed at Washington, DC, this 5th day of March 2009.
Richard Church,
Certifying Officer, Division of Trade Adjustment Assistance.

[FR Doc. E9-5913 Filed 3-19-09; 8:45 am]

BILLING CODE 4510-FN-P